DEPARTMENT OF EDUCATION

Office of Special Education and Rehabilitative Services; List of Correspondence

AGENCY: Department of Education.

ACTION: List of correspondence from April 1, 2010 through June 30, 2010.

SUMMARY: The Secretary is publishing the following list pursuant to section 607(f) of the Individuals with Disabilities Education Act (IDEA). Under section 607(f) of the IDEA, the Secretary is required, on a quarterly basis, to publish in the Federal Register, a list of correspondence from the U.S. Department of Education (Department) received by individuals during the previous quarter that describes the interpretations of the Department of the IDEA or the regulations that implement the IDEA.

FOR FURTHER INFORMATION CONTACT: Laurel Nishi or Mary Louise Dirrigl. Telephone: (202) 245-7468.

If you use a telecommunications device for the deaf (TDD), you can call the Federal Relay Service (FRS), toll free, at 1-800-877-8339.

Individuals with disabilities can obtain a copy of this notice in an accessible format (e.g., braille, large print, audiotape, or computer diskette) on request to the contact persons listed under FOR FURTHER INFORMATION CONTACT.

SUPPLEMENTARY INFORMATION: The following list identifies correspondence from the Department issued from April 1, 2010 through June 30, 2010. Included on the list are those letters that contain interpretations of the requirements of the IDEA and its implementing regulations, as well as letters and other documents that the Department believes will assist the public in understanding the requirements of the law and its regulations. The date of and topic addressed by each letter are identified, and summary information is also provided, as appropriate. To protect the privacy interests of the individual or individuals involved, personally identifiable information has been redacted, as appropriate.

Part B—Assistance for Education of All Children With Disabilities

Section 612—State Eligibility

Topic Addressed: Free Appropriate Public Education

o Letter dated May 14, 2010 to New York State Education Department Vocational and Educational Services for Individuals with Disabilities Deputy Commissioner Rebecca Cort, regarding whether there is a relationship between General Education Development (GED) programs and free appropriate public education (FAPE) requirements.

Topic Addressed: Children in Private Schools

o Letter dated May 5, 2010 to Maryland attorney Jerrold Miller, regarding the limitation on a parent's right to reimbursement for the cost of his or her child's private school placement when FAPE is at issue.

Topic Addressed: State Educational Agency General Supervisory Authority

o Letter dated June 9, 2010 to Maryland attorney Eric Brousaides, clarifying that a State determines the form of documentation necessary to show that public agencies are in compliance with individualized education program (IEP) requirements.

Topic Addressed: Maintenance of State Financial Support

○ Letter dated June 14, 2010 to National Association of State Directors of Special Education Executive Director Bill East, reiterating that the calculation of State financial support for special education and related services for children with disabilities includes financial support made available by agencies other than the State educational agency.

○ Letter dated June 30, 2010 to Missouri Department of Elementary and Secondary Education Division of Special Education Assistant Commissioner Heidi Atkins-Lieberman, clarifying that a State that decides to discontinue participation in the IDEA section 619 program may not reduce State financial support for special education and related services for children with disabilities.

Section 613—Local Educational Agency Eligibility

Topic Addressed: Maintenance of Effort

○ Letter dated June 28, 2010 to individual (personally identifiable information redacted), clarifying local educational agency maintenance of fiscal effort requirements.

Topic Addressed: Use of Federal Funds

○ Letter dated June 1, 2010 to Michigan Department of Education Office of Special Education and Early Intervention Services official John Andrejack, clarifying requirements for expending the proportionate amount of Part B, IDEA funds for equitable services, use of funds for coordinated early intervening services, and local maintenance of effort.

Section 614—Evaluations, Eligibility Determinations, Individualized Education Programs, and Educational Placements

Topic Addressed: Evaluations, Parental Consent, and Reevaluations

○ Letter dated June 2, 2010 to Head Start/Hilton Foundation Training Program SpecialQuest Birth-Five Director Linda Brekken, regarding whether the response to intervention requirements in Part B of the IDEA are applicable to children ages three through five enrolled in Head Start programs.

○ Letter dated June 3, 2010 to Missouri attorney Deborah S. Johnson, regarding the definition of consent in the regulations implementing Part B of the IDEA.

Electronic Access to This Document

You can view this document, as well as all other Department of Education documents published in the Federal Register, in text or Adobe Portable Document Format (PDF) on the Internet at the following site: http://www.ed.gov/news/fedregister/index.html.

To use PDF you must have Adobe Acrobat Reader, which is available free at this site.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Dated: October 25, 2010.
Alexa Posny,
Assistant Secretary for Special Education and Rehabilitative Services.

[FR Doc. 2010-27406 Filed 10-28-10; 8:45 am]

BILLING CODE 4000-01-P